DEPARTMENT OF HEALTH AND HUMAN SERVICES

Centers for Disease Control and Prevention

[Docket No. CDC-2022-0014]

Draft Supplemental Environmental Impact Statement; Notice of Public Meeting and Comment Period

AGENCY: Centers for Disease Control and Prevention (CDC), Department of Health and Human Services (HHS).

ACTION: Notice.

SUMMARY: The Centers for Disease Control and Prevention (CDC) within the Department of Health and Human Services (HHS) announces the opening of a docket and public meeting to obtain comments on the Draft Supplemental Environmental Impact Statement (SEIS) for CDC's Roybal Campus in Atlanta, Georgia. The Draft SEIS was prepared to address changes proposed since completing the 2014 Final Environmental Impact Statement (EIS) for the CDC Roybal Campus 2025 Master Plan (2014 Final EIS) and issuing the Record of Decision dated November 7, 2014. The 2014 Final EIS analyzed the potential impacts associated with implementing a new long-range Master Plan to guide the future physical development of the Roybal Campus for the planning horizon of 2015 to 2025.

DATES: Written comments must be received on or before August 22, 2022.

A virtual public meeting will be held on July 27, 2022, from 6:00 p.m. EST to 8:00 p.m. EST. This meeting will occur via the Zoom platform.

Please register at https://us06web.zoom.us/meeting/register/tZ0vduiqrT8oEtfyyzvqDUn_oUl5nS-LvfUE.

Registration is required prior to the meeting. Once registered, you will receive an email with the meeting link and call-in number. The meeting will be recorded using the Zoom platform and a stenographer will transcribe the public meeting. The transcript will be posted on the Docket and included in the Final SEIS.

ADDRESSES: You may submit comments, identified by Docket Number CDC-2022-0014, by either of the following methods:

• Federal eRulemaking Portal: https://www.regulations.gov/. Follow the instructions for submitting comments.

• U.S. Mail: Thayra Riley, NEPA Coordinator, Office of Safety, Security, and Asset Management, Centers for Disease Control and Prevention, 1600 Clifton Road NE, Mailstop H20-4, Atlanta, Georgia 30329.

Instructions: All submissions received must include the Agency name and Docket Number (CDC-2022-0014). CDC will post, without change, all relevant comments to https://www.regulations.gov, including any personal information provided. Do not submit comments by email. CDC does not accept comments by email. For access to the docket to read background documents or comments received, go to https://www.regulations.gov. Oral comments on the Draft SEIS will also be accepted during the virtual public meeting scheduled for July 27, 2022.

FOR FURTHER INFORMATION CONTACT: Thayra Riley, NEPA Coordinator, Office of Safety, Security, and Asset Management, Centers for Disease Control and Prevention, 1600 Clifton Road NE, Mailstop H20-4, Atlanta, Georgia 30329. Email: cdc-roybalga-seis@cdc.gov. Telephone: 770-488-8170.

SUPPLEMENTARY INFORMATION: On January 28, 2022, CDC published a Notice of Intent to prepare an SEIS in the Federal Register (87 FR 4603). CDC has prepared a Draft SEIS to analyze the potential impacts of additional proposed components that were not analyzed in the 2014 Final EIS. The proposed components include the addition of a Hospital, Medical, and Infectious Waste Incinerator (HMIWI) in a new laboratory and two emergency standby power diesel generators. The construction of a new laboratory was included in the 2014 Final EIS and will not be re-evaluated in the SEIS.

In accordance with the National Environmental Policy Act (NEPA) as implemented by Council on Environmental Quality (CEQ) regulations (Code of Federal Regulations Title 40, Section 1507.3) and HHS environmental procedures, CDC prepared a Draft SEIS to analyze the effects of additional proposed components that were not analyzed in the 2014 Final EIS. The potential impacts of construction and operation of these components on the natural and built environment are being evaluated.

Under NEPA, federal agencies are required to evaluate the environmental effects of their proposed actions and a range of feasible alternatives to the proposed actions prior to making a final decision about what actions to take. The Draft SEIS incorporates the 2014 Final EIS by reference and builds upon that document to focus on specific resource areas that would have potential effects that will differ from those analyzed in the 2014 Final EIS.

Alternatives Considered

CDC analyzed two alternatives in the Draft SEIS: The Proposed Action (Alternative 1) and the No Action Alternative. Alternative 1 consists of the construction and operation of a HMIWI in a new laboratory building and the operation of two emergency standby power diesel generators. The No Action Alternative consists of the construction of the new laboratory without the HMIWI and two emergency standby power generators.

The Draft SEIS evaluates the environmental impacts that may result from Alternative 1 and the No Action Alternative on the following resource categories: air quality, climate change and sustainability, environmental justice, and hazardous/medical/infectious waste. The Draft SEIS identifies measures to mitigate potential adverse impacts.

Availability of the Draft SEIS: Notice of the Availability of the Draft SEIS has been provided to Federal, State, and local agencies and organizations via hard copy letter or electronic mail to the interested parties list. The public is being notified of the availability of the Draft SEIS through this Federal Register publication and a notice published in The Atlanta Journal—Constitution. The Draft SEIS is available online on the Federal eRulemaking Portal identified by Docket No. CDC-2022-0014. Hard copies of the Draft SEIS are available at the following six locations: Decatur Library, 215 Sycamore Street, Decatur, GA 30030; Toco Hill-Avis G. Williams Library, 1282 McConnell Drive, Decatur, GA 30030; Atlanta-Fulton Public Library, Ponce de Leon Branch, 980 Ponce de Leon Ave. NE, Atlanta, GA 30306; Atlanta-Fulton Public Library, Central Library, One Margaret Mitchell Square, Atlanta, GA 30303; Atlanta-Fulton Public Library, Kirkwood Branch, 11 Kirkwood Rd. NE, Atlanta, GA 30317; and Emory University Robert W. Woodruff Library, 540 Asbury Cir., Atlanta, GA 30322.

Public Meeting: A virtual public meeting will be held on July 27, 2022, from 6:00 p.m. EST to 8:00 p.m. EST. This meeting will occur via the Zoom platform. Please register at https://us06web.zoom.us/meeting/register/tZ0vduiqrT8oEtfyyzvqDUn_oUl5nS-LvfUE.

Registration is required prior to the meeting. Once registered, you will receive an email with the meeting link and call-in number.

The meeting will start with a formal presentation and will be followed by a period during which the public can comment or ask questions. A stenographer will transcribe the public meeting. A transcript of the meeting will be made available to the public and will be posted to the public docket at www.regulations.gov, identified by Docket No. CDC-2012-0014. CDC will provide a response to comments in the Final SEIS.

Dated: July 1, 2022.
Angela K. Oliver,
Executive Secretary, Centers for Disease Control and Prevention.

[FR Doc. 2022-14518 Filed 7-7-22; 8:45 am]

BILLING CODE 4163-18-P